DEPARTMENT OF ENERGY

Federal Energy Regulatory Commission

Combined Notice of Filings

Take notice that the Commission has received the following Natural Gas Pipeline Rate and Refund Report filings:

Filings Instituting Proceedings

Docket Numbers: PR26-17-000.

Applicants: Louisville Gas and Electric Company.

Description: 284.123(g) Rate Filing: LGE Revised Statement of Operating Conditions to be effective 11/1/2025.

Filed Date: 11/21/25.

Accession Number: 20251121-5398.

Comment Date: 5 p.m. ET 12/12/25.

284.123(g) Protest: 5 p.m. ET 1/20/26.

Docket Numbers: RP26-227-000.

Applicants: Transcontinental Gas Pipe Line Company, LLC.

Description: 4(d) Rate Filing: Rate Schedule S-2 Tracker Filing Eff 12/1/2025 to be effective 12/1/2025.

Filed Date: 11/21/25.

Accession Number: 20251121-5292.

Comment Date: 5 p.m. ET 12/3/25.

Docket Numbers: RP26-228-000.

Applicants: Southern Natural Gas Company, L.L.C.

Description: 4(d) Rate Filing: SNG SCRM Filing 2025 to be effective 1/1/2026.

Filed Date: 11/24/25.

Accession Number: 20251124-5214.

Comment Date: 5 p.m. ET 12/8/25.

Docket Numbers: RP26-229-000.

Applicants: Southern Natural Gas Company, L.L.C.

Description: Compliance filing: SNG Operational Transactions Filing 2025 to be effective N/A.

Filed Date: 11/24/25.

Accession Number: 20251124-5260.

Comment Date: 5 p.m. ET 12/8/25.

Docket Numbers: RP26-230-000.

Applicants: Natural Gas Pipeline Company of America LLC.

Description: 4(d) Rate Filing: Negotiated Rate Agreements—Municipal Customers December 2025 to be effective 12/1/2025.

Filed Date: 11/24/25.

Accession Number: 20251124-5263.

Comment Date: 5 p.m. ET 12/8/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or (202) 502-6595 or OPP@ferc.gov.

Dated: November 24, 2025.
Carlos D. Clay,
Deputy Secretary.

[FR Doc. 2025-21415 Filed 11-26-25; 8:45 am]

BILLING CODE 6717-01-P